FEDERAL EMERGENCY MANAGEMENT AGENCY

Partially Open Meeting, Board of Visitors for the National Fire Academy

AGENCY: Federal Emergency Management Agency (FEMA).

ACTION: Notice of partially open meeting.

SUMMARY: In accordance with section 10 (a) (2) of the Federal Advisory Committee Act, 5 U.S.C. App. 2, FEMA announces the following committee meeting:

Name: Board of Visitors for the National Fire Academy.

Dates of Meeting: October 5-7, 2000.

Place: Building J, Room 268, National Emergency Training Center, Emmitsburg, Maryland.

Time: October 5, 2000, 8:30 a.m.—9:30 a.m. (Open Meeting), October 5, 2000, 9:30 a.m.—12 noon (Closed Meeting), October 5, 2000, 12 noon—5 p.m. (Open Meeting), October 6, 2000, 8:30 a.m.—9 p.m. (Open Meeting), October 7, 2000, 8:30 a.m.—12 noon (Open Meeting).

Proposed Agenda: October 5, (Closed Meeting From 9:30 a.m.—12 noon, to review Fiscal Year 2001 budgetary and procurement recommendations.) October 5, 12 noon—5 p.m., Review National Fire Academy Program Activities. October 6-7, Finish review of National Fire Academy Program Activities and prepare Annual Report.

SUPPLEMENTARY INFORMATION: The meeting will be open to the public (except as noted above) with seating available on a first-come, first-served basis. Members of the general public who plan to attend the meeting should contact the Office of the Superintendent, National Fire Academy, U.S. Fire Administration, 16825 South Seton Avenue, Emmitsburg, MD 21727, (301) 447-1117, on or before September 29, 2000.

Minutes of the meeting will be prepared and will be available for public viewing in the Office of the Chief Operating Officer, U.S. Fire Administration, Federal Emergency Management Agency, Emmitsburg, Maryland 21727. Copies of the minutes will be available upon request within 60 days after the meeting.

Dated: September 8, 2000.
Kenneth O. Burris, Jr.,
Chief Operating Officer.

[FR Doc. 00-24035 Filed 9-18-00; 8:45 am]

BILLING CODE 6718-01-P